DEPARTMENT OF THE TREASURY

Agency Information Collection Activities; Submission for OMB Review; Comment Request; Notice to Account Holder for Garnishment of Accounts Containing Federal Benefit Payments

AGENCY: Departmental Offices, Department of the Treasury.

ACTION: Notice of information collection; request for comment.

SUMMARY: The Department of the Treasury will submit the following information collection request to the Office of Management and Budget (OMB) for review and clearance in accordance with the Paperwork Reduction Act of 1995, on or after the date of publication of this notice. The public is invited to submit comments on this request.

DATES: Comments should be received on or before October 30, 2023 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Spencer W. Clark by emailing PRA@treasury.gov, calling (202) 927-5331, or viewing the entire information collection request at www.reginfo.gov.

SUPPLEMENTARY INFORMATION:

Departmental Offices (DO)

Title: Notice to Account Holder for Garnishment of Accounts Containing Federal Benefit Payments.

OMB Control Number: 1505-0230.

Type of Review: Extension without change of a currently approved collection.

Description: On May 29, 2013, the Department of the Treasury, Social Security Administration, Department of Veterans Affairs, Railroad Retirement Board and the Office of Personnel Management (Agencies) published a final rule, which governed the garnishment of certain federal benefit payments that are directly deposited to accounts at financial institutions. Social Security benefits, Supplemental Security Income benefits, VA benefits, Federal Railroad retirement benefits, Civil Service Retirement System and Federal Employee Retirement System benefits are exempt under federal law from garnishment orders. The final rule gave force and effect to the federal anti-garnishment statutes. The rule also addressed the hardships that recipients of federal benefit payments encountered when a financial institution placed a freeze on an account containing certain types of exempt federal benefit payments that had been directly deposited, and the difficulties that financial institutions had in determining whether funds deposited into an account are exempt from garnishment. The primary goals of the rule were (1) to ensure that benefit recipients have full and customary access to exempt funds; (2) to protect financial institutions from liability when, having received a garnishment order for an account holder receiving exempt federal benefit payments, they allow the account holder access to exempt funds in the account; and (3) to establish straightforward, uniform, cost effective procedures addressing the extent to which financial institutions may, pursuant to garnishment orders, freeze or seize funds in accounts that contain federal benefits.

The collection of information in the Final Rule is found in §§ 212.6 Rules and procedures to protect benefits and is authorized under 12 U.S.C. 1786 and 12 U.S.C. 1818.

Form: None.

Affected Public: Private Sector; State, Local and Tribal governments.

Estimated Number of Respondents: 487,750.

Frequency of Response: On occasion.

Estimated Total Number of Annual Responses: 487,750.

Estimated Time per Response: 5-10 minutes.

Estimated Total Annual Burden Hours: 76,688.

Authority: 44 U.S.C. 3501 et seq.

Spencer W. Clark,
Treasury PRA Clearance Officer.

[FR Doc. 2023-21282 Filed 9-27-23; 8:45 am]

BILLING CODE 4810-AK-P